DEPARTMENT OF HEALTH AND HUMAN SERVICES

Centers for Medicare & Medicaid Services

[Document Identifier: CMS-379, CMS-10102, and CMS-R-235]

Agency Information Collection Activities: Submission for OMB Review; Comment Request

AGENCY: Centers for Medicare & Medicaid Services, Department of Health and Human Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Financial Statement of Debtor and Supporting Regulations in 42 CFR, Section 405.376; Use: Section 42 CFR 405.376(g) requires that, “ * * * In determining whether a claim will be compromised, or collection action terminated, CMS will consider the following factors: * * * age and health of the debtor, present and potential income, inheritance prospects, possible concealment or fraudulent transfer of assets * * *” Sections 1842(a)(1)(B) and (C) of the Social Security Act and 42 CFR 405.376(g), provide the authority for collection of this information.

In some instances a physician/supplier who is notified of a debt may allege inability to immediately repay the debt in full and may request an extended repayment schedule. Alternatively, the debtor may request a compromise settlement for less than the full amount due. Before establishing an extended repayment schedule or compromise settlement, the CMS's Regional Offices and the carrier must evaluate the provider's capacity to pay the debt. Accordingly, the provider is requested to complete a “Financial Statement of Debtor” form, CMS-379. Form Number: CMS-379 (OMB#: 0938-0270); Frequency: Reporting: Yearly; Affected Public: Business or other for-profit; Number of Respondents: 500; Total Annual Responses: 500; Total Annual Hours: 1000.

2. Type of Information Collection Request: Extension of a currently approved collection; Title of Information Collection: National Implementation of Hospital Consumer Assessment of Health Providers and Systems (HCAHPS); Use: The intent of the HCAHPS initiative is to provide a standardized survey instrument and data collection methodology for measuring patients' perspectives on hospital care. While many hospitals collect information on patient satisfaction, there is no national standard for collecting or publicly reporting this information that would enable valid comparisons to be made across all hospitals. In order to make “apples to apples” comparisons to support consumer choice, it is necessary to introduce a standard measurement approach. Hospital Consumer Assessment of Healthcare Providers and Systems, also known as the CAHPS Hospital Survey (HCAHPS) can be viewed as a core set of questions that hospitals can combine with their customized items. HCAHPS was developed and is being implemented under the auspices of the Hospital Quality Alliance, a private/public partnership that includes hospital associations, consumer groups, payors and government agencies that share a common interest in reporting on hospital quality.

Beginning in July 2007, participation in HCAHPS can affect the annual payment update for the inpatient prospective payment system (IPPS) hospitals participating in the Reporting Hospital Quality Data Annual Payment Update (RHQDAPU) program; Form Number: CMS-10102 (OMB#: 0938-0981); Frequency: Reporting: Monthly; Affected Public: Individuals or households; Number of Respondents: 2,820,000; Total Annual Responses: 2,820,000; Total Annual Hours: 285,200.

3. Type of Information Collection Request: Extension of a currently approved collection; Title of Information Collection: Data Use Agreement Information Collection Requirements, Model Language and Supporting Regulations in 45 CFR Section 5b. Use: The Data Use Agreement (DUA) is needed as part of the review of each CMS data request to ensure compliance with the requirements of the Privacy Act for disclosure of data that contain individually-identifiable information. In addition, the DUA is used to maintain appropriate accounting and tracking of disclosures of records from Privacy Act systems of records. While the burden has not changed, we revised the DUA to The DUA was updated to include language to ensure the agreement is a binding agreement between CMS and the User, to ensure the data is being encrypted and appropriate protections are in place at all times, and to ensure appropriate actions are immediately taken if there is a data breach or incident. Form Number: CMS-R-0235 (OMB#: 0938-0734); Frequency: Reporting—On occasion; Affected Public: Not-for-profit institutions; Number of Respondents: 1,500; Total Annual Responses: 1,500; Total Annual Hours: 750.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer:

OMB Human Resources and Housing Branch,

Attention: Carolyn Lovett,

New Executive Office Building, Room 10235,

Washington, DC 20503,

Fax Number: (202) 395-6974.

Dated: September 13, 2007.
Michelle Shortt,
Director, Regulations Development Group, Office of Strategic Operations and Regulatory Affairs.

[FR Doc. E7-18468 Filed 9-20-07; 8:45 am]

BILLING CODE 4120-01-P